DEPARTMENT OF ENERGY

Federal Energy Regulatory Commission

[Project No. 4113-067]

Oswego Hydro Partners, LP; Notice of Application Ready for Environmental Analysis and Soliciting Comments, Recommendations, Terms and Conditions, and Prescriptions

Take notice that the following hydroelectric application has been filed with the Commission and is available for public inspection.

a. Type of Application: New Major License.

b. Project No.: 4113-067.

c. Date Filed: February 27, 2024.

d. Applicant: Oswego Hydro Partners, LP.

e. Name of Project: Phoenix Hydroelectric Project (project).

f. Location: On the Oswego, Oneida, and Seneca Rivers in Onondaga and Oswego counties, New York.

g. Filed Pursuant to: Federal Power Act, 16 U.S.C. 791(a)-825(r).

h. Applicant Contact: Jody Smet, Vice President Regulatory Affairs, Eagle Creek Renewable Energy, LLC, 7315 Wisconsin Avenue, Suite 1100W, Bethesda, MD 20814; telephone at (240) 482-2700; email at Jody.smet@eaglecreekre.com.

i. FERC Contact: Joshua Dub, Project Coordinator, Great Lakes Branch, Division of Hydropower Licensing; telephone at (202) 502-8138; email at Joshua.Dub@FERC.gov.

j. Deadline for filing comments, recommendations, terms and conditions, and prescriptions: on or before 5:00 p.m. Eastern Time on August 1, 2025; reply comments are due on or before 5:00 p.m. Eastern Time on September 15, 2025. The Commission strongly encourages electronic filing. Please file comments, recommendations, terms and conditions, and prescriptions using the Commission's eFiling system at https://ferconline.ferc.gov/FERCOnline.aspx. Commenters can submit brief comments up to 6,000 characters, without prior registration, using the eComment system at https://ferconline.ferc.gov/QuickComment.aspx. For assistance, please contact FERC Online Support at FERCOnlineSupport@ferc.gov, (866) 208-3676 (toll free), or (202) 502-8659 (TTY). In lieu of electronic filing, you may submit a paper copy. Submissions sent via the U.S. Postal Service must be addressed to: Debbie-Anne A. Reese, Secretary, Federal Energy Regulatory Commission, 888 First Street NE, Room 1A, Washington, DC 20426. Submissions sent via any other carrier must be addressed to: Debbie-Anne A. Reese, Secretary, Federal Energy Regulatory Commission, 12225 Wilkins Avenue, Rockville, Maryland 20852. All filings must clearly identify the project name and docket number on the first page: Phoenix Hydroelectric Project (P-4113-067).

The Commission's Rules of Practice and Procedure require all intervenors filing documents with the Commission to serve a copy of that document on each person on the official service list for the project. Further, if an intervenor files comments or documents with the Commission relating to the merits of an issue that may affect the responsibilities of a particular resource agency, they must also serve a copy of the document on that resource agency.

k. This application has been accepted for filing and is now ready for environmental analysis.

l. Project Description: The project consists of a 981-foot-long concrete dam, known as the Phoenix Dam, that includes: (1) an approximately 90-foot-long, 55-foot-wide powerhouse that is integral with the dam and includes: (a) north and south intake openings with a trashrack with 1-inch clear bar spacing; and (b) two 1.59-megawatt (MW) vertical Kaplan turbine-generator units, for a total installed capacity of 3.18 MW; (2) a 25-foot-long section that includes a 10-foot-long debris sluice gate and a 7-foot-long sluice gate; (3) a 163-foot-long ogee spillway with 1-foot-high flashboards that have a crest elevation of 362.42 feet North American Vertical Datum of 1988 (NAVD 88); (4) an approximately 206-foot-long section with four 46.5-foot-long Tainter gates; (5) a 390-foot-long ogee spillway with 1-foot-high flashboards that have a crest elevation of 362.42 feet NAVD 88; and (6) a 107-foot-long section with two 41.5-foot-long Tainter gates.

The 107-foot-long Tainter gate section of Phoenix Dam abuts Lock Island, which is a non-project feature that spans approximately 150 feet of the Oswego River. In addition, a non-project lock, known as the Phoenix Lock, spans approximately 45 feet of the Oswego River between Lock Island and the east shoreline of the Oswego River. Together, the Phoenix Dam, Lock Island, and Phoenix Lock create an impoundment that has a surface area of approximately 1,400 acres at 362.42 feet NAVD 88.

From the impoundment, water flows through the trashrack to a forebay, and then through the powerhouse. Water is discharged from the turbines to an approximately 120-foot-long tailrace that discharges to the Oswego River.

The project includes a trap and transport facility for the upstream passage of American eel, including an eel ramp and eel collection box located approximately 160 feet downstream of the project dam on the west shoreline of the Oswego River. The project also includes a downstream fishway that consists of the 7-foot-long sluice gate and a 4.8-foot-deep concrete plunge pool. Additionally, the project includes an aluminum walkway that provides access to the 206-foot-long Tainter gate section of the dam.

The project generators are connected to the regional electric grid by a 4.16/34.5-kilovolt (kV) step-up transformer and a 230-foot-long, 34.5-kV underground transmission line. There are no project recreation facilities.

The minimum and maximum hydraulic capacities of the powerhouse are 500 and 4,580 cubic feet per second (cfs), respectively. The average annual energy production of the project from 2016 through 2023 was 10,518 megawatt-hours.

The current license requires Oswego Hydro to operate the project in a run-of-river mode and maintain a maximum impoundment surface elevation of 362.42 feet NAVD88. Oswego Hydro currently maintains the surface elevation of the impoundment between 361.92 feet and 362.42 feet NAVD 88. The current license also requires Oswego Hydro to: (1) release a year-round minimum flow of 300 cfs or inflow, whichever is less, to the Oswego River downstream of the project; and (2) when inflow is less than 1,900 cfs from June 1 through October 31, monitor water quality and, if average tailwater dissolved oxygen drops below 5 milligrams per liter, provide mitigative flow releases for the protection of downstream water quality. Oswego Hydro provides upstream eel passage from June through October, using the trap and transport facility, and provides downstream fish passage year-round using the downstream fishway.

Oswego Hydro proposes to continue operating the project in a run-of-river mode and maintaining the surface elevation of the impoundment at 361.92 to 362.42 feet NAVD 88. Oswego Hydro proposes to continue releasing a year-round minimum flow of 300 cfs or inflow, whichever is less, to the Oswego River downstream of the project, but does not propose to continue water quality monitoring and mitigative flow releases when inflow is less than 1,900 cfs from June 1 through October 31. In addition, Oswego Hydro proposes to continue operating and maintaining the trap and transport facility and the downstream fishway for eel and fish passage. Oswego Hydro proposes to develop a fish passage operation and maintenance plan, implement a Bat and Bald Eagle Protection Plan that it filed in the application, and maintain an existing interpretative display and fencing for the protection of historic properties.

m. A copy of the application can be viewed on the Commission's website at http://www.ferc.gov using the “eLibrary” link. Enter the docket number excluding the last three digits in the docket number field to access the document. For assistance, contact FERC Online Support.

All filings must (1) bear in all capital letters the title “COMMENTS,” “REPLY COMMENTS,” “RECOMMENDATIONS,” “TERMS AND CONDITIONS,” or “PRESCRIPTIONS;” (2) set forth in the heading the name of the applicant and the project number of the application to which the filing responds; (3) furnish the name of the person submitting the filing; and (4) otherwise comply with the requirements of 18 CFR 385.2001 through 385.2005. All comments, recommendations, terms and conditions or prescriptions must set forth their evidentiary basis and otherwise comply with the requirements of 18 CFR 4.34(b). Agencies may obtain copies of the application directly from the applicant. Each filing must be accompanied by proof of service on all persons listed on the service list prepared by the Commission in this proceeding, in accordance with 18 CFR 4.34(b) and 385.2010.

The Commission's Office of Public Participation (OPP) supports meaningful public engagement and participation in Commission proceedings. OPP can help members of the public, including landowners, community organizations, Tribal members and others, access publicly available information and navigate Commission processes. For public inquiries and assistance with making filings such as interventions, comments, or requests for rehearing, the public is encouraged to contact OPP at (202) 502-6595 or OPP@ferc.gov.

You may also register online at https://ferconline.ferc.gov/FERCOnline.aspx to be notified via email of new filings and issuances related to this or other pending projects. For assistance, contact FERC Online Support.

n. The applicant must file on or before 5:00 p.m. Eastern Time on August 1, 2025: (1) a copy of the water quality certification; (2) a copy of the request for certification, including proof of the date on which the certifying agency received the request; or (3) evidence of waiver of water quality certification.

o. Procedural Schedule: The application will be processed according to the following schedule. Revisions to the schedule will be made as appropriate.

Milestone | Target date
Filing of Comments, Recommendations, Terms and Conditions, and Prescriptions | August 1, 2025.
Filing of Reply Comments | September 15, 2025.

p. Final amendments to the application must be filed with the Commission on or before 5:00 p.m. Eastern Time on July 2, 2025.

Dated: June 2, 2025.
Debbie-Anne A. Reese,
Secretary.

[FR Doc. 2025-10356 Filed 6-5-25; 8:45 am]

BILLING CODE 6717-01-P